DEPARTMENT OF THE INTERIOR

National Park Service

Notice of Inventory Completion: Paul H. Karshner Memorial Museum, Puyallup, WA

AGENCY: National Park Service, Interior.

ACTION: Notice.

Notice is here given in accordance with the Native American Graves Protection and Repatriation Act (NAGPRA), 25 U.S.C. 3003, of the completion of an inventory of human remains in the possession of the Paul H. Karshner Memorial Museum, Puyallup, WA. The human remains were removed from the Aleutian Islands, AK.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Paul H. Karshner Memorial Museum professional staff in consultation with representatives of the Aleut Corporation.

Prior to 1945, human remains representing a minimum of one individual were removed from the Aleutian Islands in Alaska. On May 5, 1945, the human remains were donated to the museum by Lee Anna (or Lavanna) McAllister (Catalog # 1-93, Accn. #1945-1). Museum records state that the human remains are “one skull from Aleutian Islands. Found at the mouth of the Salmon River on the shores of the Bering Sea”. No known individual was identified. No associated funerary objects are present.

Research into the donor has not indicated how she may have acquired the human remains. There is no known “Salmon River” that drains into the Bering Sea, however, “Salmon Lagoon” was a location with significant U.S. military presence during World War II on Kiska Island, Aleutian Islands. Military records were searched to locate a McAllister who may have been stationed on Kiska Island, but no further information was identified. Although no further information could be identified, based on the known military presence on Kiska Island at Salmon Lagoon and the date of the donation (post-World War II), this individual is reasonably believed to have been collected by military personnel.

The museum's inventory book identifies the human remains as being part of the “Native American Collection” and being from the Aleutian Islands, AK. The Aleutian Islands are known to be aboriginal lands for the Aleut Corporation. Based on museum records, geographical location, and consultation, the museum reasonably believes the individual is culturally affiliated with the Aleut Corporation.

Officials of the Paul H. Karshner Memorial Museum have determined that, pursuant to 25 U.S.C. 3001 (9)-(10), the human remains described above represent the physical remains of one individual of Native American ancestry. Officials of the Paul H. Karshner Memorial Museum also have determined that, pursuant to 25 U.S.C. 3001 (2), there is a relationship of shared group identity that can be reasonably traced between the Native American human remains and the Aleut Corporation.

Representatives of any other Indian tribe that believes itself to be culturally affiliated with the human remains should contact Dr. Jay Reifel, Assistant Superintendent, Paul H. Karshner Memorial Museum, telephone (253) 840-8971, or Ms. Beth Bestrom, Museum Curator, Paul H. Karshner Memorial Museum, telephone (253) 841-8748, 309 4th St. NE, Puyallup, WA 98372, before June 3, 2010. Repatriation to the Aleut Corporation may proceed after that date if no additional claimants come forward.

The Paul H. Karshner Memorial Museum is responsible for notifying the Aleut Corporation that this notice has been published.

Dated: April 16, 2010.
David Tarler,
Acting Manager, National NAGPRA Program.

[FR Doc. 2010-10370 Filed 5-3-10; 8:45 am]

BILLING CODE 4312-50-S